DEPARTMENT OF ENERGY

Federal Energy Regulatory Commission

[Docket No. EG01-18-000, et al.]

Handsome Lake Energy, LLC, et al.; Electric Rate and Corporate Regulation Filings

November 7, 2000.

Take notice that the following filings have been made with the Commission:

1. Handsome Lake Energy, LLC

[Docket No. EG01-18-000]

Take notice that on October 31, 2000, Handsome Lake Energy, LLC (the Applicant), with its principal place of business at 111 Market Place, Suite 200, Baltimore, Maryland 21202, filed with the Federal Energy Regulatory Commission an application for determination of exempt wholesale generator status pursuant to Part 365 of the Commission's regulations.

Comment date: November 28, 2000, in accordance with Standard Paragraph E at the end of this notice. The Commission will limit its consideration of comments to those that concern the adequacy or accuracy of the application.

2. Electrica Pullinque S.A.

[Docket No. EG01-19-000]

Take notice that on November 1, 2000, Electrica Pullinque S.A., a corporation (sociedad anónima) organized under the laws of the Republic of Chile (Applicant) with its principal place of business at Las Bellotas No. 199, Oficina No. 104, Providencia, Santiago, Chile, filed with the Federal Energy Regulatory Commission an application for determination of exempt wholesale generator status pursuant to Part 365 of the Commission's regulations.

Comment date: November 28, 2000, in accordance with Standard Paragraph E at the end of this notice. The commission will limit its consideration of comments to those that concern the adequacy or accuracy of the application.

3. Cottonwood Energy Company, Limited Partnership

[Docket No. EG01-23-000]

Take notice that On November 3, 2000, Cottonwood Energy Company LP (Cottonwood), a limited partnership with its principal place of business at 909 Fannin, Suite 2222, Houston, Texas 77010, filed with the Federal Energy Regulatory Commission (Commission) an application for determination of exempt wholesale generator status pursuant to Part 365 of the Commission's regulations.

Cottonwood states that it will be engaged directly and exclusively in the business of owning a 1200 MW natural gas fired, combined cycle electric generating facility and related assets to be located on an approximately 250 acre site located near the town of Hartburg, Texas. Cottonwood will sell its capacity exclusively at wholesale.

Comment date: November 28, 2000, in accordance with Standard Paragraph E at the end of this notice. The Commission will limit its consideration of comments to those that concern the adequacy or accuracy of the application.

4. Calpine Construction Finance Company, L.P.

[Docket No. EG01-24-000]

Take notice that on November 3, 2000, Calpine Construction Finance Company, L.P. (CCFC) filed with the Federal Energy Regulatory Commission an application for determination of exempt wholesale generator status pursuant to part 365 of the Commission's regulations.

CCFC, a Delaware limited partnership, proposes to own and operate several electric generating facilities and sell the output at wholesale to electric utilities, an affiliated power marketer and other purchasers. The initial facilities consist of natural gas-fired, combined cycle generating facilities under development or construction in Westbrook, Maine; Edinburg, Texas; Mojave County, Arizona; Yuba City, California; Ontelaunee, Pennsylvania; Talapoosa County, Alabama; Lowndes County, Mississippi; Auburndale, Florida; and Bastrop County, Texas.

Comment date: November 28, 2000, in accordance with Standard Paragraph E at the end of this notice. The Commission will limit its consideration of comments to those that concern the adequacy or accuracy of the application.

5. Entergy Services, Inc.

[Docket Nos. EL99-6-002, ER99-231-002, ER99-232-002 and ER99-487-002]

Take notice that on November 2, 2000, Entergy Services, Inc. (Entergy Services), on behalf of Entergy Arkansas, Inc., Entergy Gulf States, Inc., Entergy Louisiana, Inc., Entergy Mississippi, Inc., and Entergy New Orleans, Inc. (collectively, the Entergy Operating Companies), tendered for filing an amended refund report in accordance with the Commission orders issued in Docket No. ER99-232-000.

Comment date: December 4, 2000, in accordance with Standard Paragraph E at the end of this notice.

6. Citizens Communications Company

[Docket No. ES01-8-000]

Take notice that on October 27, 2000, Citizens Communications Company submitted an application pursuant to section 204 of the Federal Power Act seeking authorization to issue the following securities, subject to an overall limitation of $3.65 billion:

(1) $3.65 billion principal amount of short-term unsecured promissory notes outstanding at any one time;

(2) $3.65 billion principal amount of long-term debt securities, with a final maturity of not less than 9 months nor more than 50 years;

(3) issuance of common stock, including shares issued upon conversion of convertible securities, the proceeds of which shall not be more than $1 billion and preferred securities having a liquidation value of not more than $1 billion, subject to an aggregate limitation of $1 billion; and

(4) assumption of $3.65 billion of obligations and liabilities as guarantor of obligations and liabilities of its subsidiaries.

Comment date: November 27, 2000, in accordance with Standard Paragraph E at the end of this notice.

6. Old Dominion Electric Cooperative

[Docket No. ER01-338-000]

Take notice that on November 1, 2000, Old Dominion Electric Cooperative (Applicant), tendered for filing a Report on Action Taken to Support Reliability and Application Submitting Addendum to Agreement, Amending Filed Rate Schedule that included an Addendum to the Amended and Restated Agreement Between Old Dominion Electric Cooperative and Bear Island Paper Company, LLC. This filing was submitted pursuant to the Commission's Notice of Interim Procedures to Support Industry Reliability Efforts and Request for Comments and relates to special, mutually-beneficial demand-side management arrangements made with a customer.

Comment date: November 27, 2000, in accordance with Standard Paragraph E at the end of this notice.

7. Wheelabrator Shasta Energy Company, Inc.

[Docket No. ER01-323-000]

Take notice that on November 1, 2000, Wheelabrator Shasta Energy Company, Inc. (Shasta Energy), tendered for filing pursuant to Rule 205, 18 CFR 385.205, a Notification of Change in Status and code of conduct as Supplement No. 1 to FERC Electric Tariff, Original Volume No. 1. This filing reflects the proposed acquisition of the stock of Shasta Energy by BTA Holdings, Inc., which is indirectly 50% owned by each of Duke Energy Corporation and an individual.

Shasta Energy requests that the Commission permit Supplement No. 1 to become effective on the date on which the Commission takes action on Shasta Energy's application for approval of a change in its upstream ownership pursuant to Section 203 of the Federal Power Act, filed simultaneously with this filing.

Copies of the filing were served on Pacific Gas and Electric Company and the California Public Utilities Commission.

Comment date: November 27, 2000, in accordance with Standard Paragraph E at the end of this notice.

8. San Diego Gas & Electric Company

[Docket No. ER01-322-000]

Take notice that on November 1, 2000, San Diego Gas & Electric Company (SDG&E), tendered for filing certain revised Transmission Owner (TO) Tariff sheets to supersede First Revised Original Sheet Nos. i, ii, 26, 67, 68, and 71 through 77. SDG&E also tendered a new wholesale RMR rate, Original Sheet No. 78. SDG&E requests an effective date of January 1, 2001. SDG&E states the instant filing is submitted to revise the Reliability Must-Run (RMR) Revenue Requirement and RMR Charges set forth in its TO Tariff, and to implement the settlement in Docket No. ER00-860-000.

Copies of this filing were served upon the Public Utilities Commission of the State of California, the California Independent System Operator and interested parties.

Comment date: November 27, 2000, in accordance with Standard Paragraph E at the end of this notice.

9. Allegheny Energy Service Corporation, on behalf of Monongahela Power Company, The Potomac Edison Company and West Penn Power Company (Allegheny Power)

[Docket No. ER01-321-000]

Take notice that on November 1, 2000, Allegheny Energy Service Corporation on behalf of Monongahela Power Company, The Potomac Edison Company and West Penn Power Company (Allegheny Power) tendered for filing Schedule 12, Retail Transmission Service—Ohio to its Pro Forma Open Access Transmission Tariff (OATT). Changes to Schedules 10 and 11, updated customer lists, and miscellaneous changes to the OATT were also filed.

Allegheny Power has requested an effective date for Schedule 12 and the other changes proposed in the filing of January 1, 2001.

Copies of the filing have been provided to Allegheny Power's jurisdictional customers, the Public Utilities Commission of Ohio, the Pennsylvania Public Utility Commission, the Maryland Public Service Commission, the Virginia State Corporation Commission and the West Virginia Public Service Commission.

Comment date: November 27, 2000, in accordance with Standard Paragraph E at the end of this notice.

10. Powerex Corp.

[Docket No. ER01-48-001]

Take notice that on November 1, 2000, Powerex Corp., tendered for filing an amendment to its October 4, 2000, Notice of Succession pursuant to 18 CFR 35.16 and 131.51 of the Commission's Regulations. Powerex Corp., is succeeding to: (i) Rate Schedule FERC No. 1, Market-Based Rate Schedule filed by British Columbia Power Exchange Corporation in Docket No. ER97-4024-000, effective August 1, 1997; and (ii) Rate Schedule No. 2, Mutual Netting/Settlement Agreement with PacifiCorp, filed by PacifiCorp in Docket No. ER99-282-000, effective September 23, 1998.

Comment date: November 27, 2000, in accordance with Standard Paragraph E at the end of this notice.

11. WPS Resources Operating Companies

[Docket No. ER01-320-000]

Take notice that on November 1, 2000, WPS Resources Operating Companies (WPS), tendered for filing modifications to its Open Access Transmission Tariff (OATT), FERC Electric Tariff, First Revised Volume No. 1. The purpose of this filing is to add charges for Schedule 2—Reactive Supply and Voltage Control from Generation Sources Service (Schedule 2 Service) for one of the operating companies of WPS, Wisconsin Public Service Corporation (WPSC).

WPS requests that the Commission accept the revised tariff for filing and make it effective on January 1, 2001.

Copies of the filing were served upon WPS's OATT customers, the American Transmission Company LLC, the Public Service Commission of Wisconsin and the Michigan Public Service Commission.

Comment date: November 27, 2000, in accordance with Standard Paragraph E at the end of this notice.

12. Consumers Energy Company

[Docket No. ER01-318-000]

Take notice that on November 1, 2000, Consumers Energy Company (Consumers) tendered for filing Attachment J (Procedures for Generator Interconnection) to be added to its Open Access Transmission Tariff (OATT), Consumers FERC Electric Tariff No. 6. Attachment J includes a pro forma Generator Interconnection and Operating Agreement.

Copies of the filing were filed on all customers under Consumers' OATT and upon the Michigan Public Service Commission. Consumers requests a November 1, 2000 effective date.

Comment date: November 27, 2000, in accordance with Standard Paragraph E at the end of this notice.

13. The Dayton Power and Light Company

[Docket No. ER01-317-000]

Take notice that on November 1, 2000, The Dayton Power and Light Company (DP&L), tendered for filing amendments to DP&L's Open Access Transmission Tariff (OATT) to accommodate retail access mandated by Ohio Restructuring Law.

DP&L requests an effective date of January 1, 2001 for the above-described amendments. Copies of this filing were served upon DP&L's jurisdictional customers and the Public Utilities Commission of Ohio.

Comment date: November 27, 2000, in accordance with Standard Paragraph E at the end of this notice.

14. Southern California Edison Company

[Docket No. ER01-315-000]

Take notice that on November 1, 2000, Southern California Edison Company (SCE), tendered for filing a revision to its Transmission Owner Tariff (TO Tariff), FERC Electric Tariff, Original Volume No. 6. The proposed revision modifies SCE's TO Tariff to establish a rate schedule for the recovery of Reliability Services costs billed directly to SCE as a Participating Transmission Owner (PTO) by the California Independent System Operation (ISO).

Copies of this filing were served upon the Public Utilities Commission of the State of California and mailed to the California ISO, Pacific Gas and Electric Company, San Diego Gas & Electric Company, the California ISO-registered Scheduling Coordinators, and the wholesale customers with loads in SCE's historic control area.

Comment date: November 27, 2000, in accordance with Standard Paragraph E at the end of this notice.

15. PJM Interconnection, L.L.C.

[Docket No. ER01-244-000]

Take notice that on October 27, 2000, PJM Interconnection, L.L.C. (PJM), tendered for filing amendments to the PJM Open Access Transmission Tariff (PJM Tariff) to include in the PJM Tariff the Small Resource Interconnection Procedure Manual which contains expedited procedures pursuant to Section 36.12 of the PJM Tariff for the interconnection of generation resources less than 10 megawatts, and requested cancellation of pages to the PJM Tariff and the Amended and Restated Operating Agreement of PJM Interconnection, L.L.C., setting forth the Customer Load Reduction Pilot Program that terminated pursuant to PJM Interconnection, Inc., 92 FERC ¶ 61,059 (2000) on September 30, 2000.

PJM requests an effective date of December 27, 2000, for the Small Resource Interconnection Procedure Manual amendments to the PJM Tariff. Consistent with PJM Interconnection, L.L.C., 92 FERC ¶ 61,059, PJM requests an effective date of October 1, 2000 for the cancellation of PJM Tariff and Operating Agreement pages setting forth the Customer Load Reduction Pilot Program.

Copies of this filing were served upon all members of PJM and each state electric utility regulatory commission in the PJM control area.

Comment date: November 27, 2000, in accordance with Standard Paragraph E at the end of this notice.

16. The Connecticut Light and Power Company

[Docket No. ER01-293-000]

Take notice that on October 31, 2000, The Connecticut Light and Power Company (CL&P), tendered for filing a Notice of Termination of a Bulk Power Supply Service Agreement and supplements thereto with Bozrah Light and Power Company and Connecticut Municipal Electric Energy Cooperative.

CL&P requests an effective date of November 1, 2000.

CL&P states that a copy of this filing was mailed to Bozrah Light and Power Company, Connecticut Municipal Electric Energy Cooperative, and the Connecticut Department of Public Utility Control.

Comment date: November 21, 2000, in accordance with Standard Paragraph E at the end of this notice.

17. Xcel Energy Operating Companies Northern States Power Company (Minnesota)

[Docket No. ER01-278-000]

Take notice that on October 31, 2000, Northern States Power Company, a wholly-owned utility operating company subsidiary of Xcel Energy Inc., tendered for filing Connection Agreement Number 61 for the Pleasant Valley Generation Plant Point of Connection (Agreement) between NSP and Great River Energy. NSP proposes the Agreement be included in the Xcel Energy Operating Companies new FERC Joint Open Access Transmission Tariff, Original Volume No. 3, as Agreement No. 535-NSP, all pursuant to Order No. 614.

NSP requests the Commission accept the Agreement effective October 1, 2000, or alternatively on November 1, 2000, the date the connection facilities are to be placed in service. NSP requests waiver of the Commission's notice requirements in order if necessary for the Agreement to be accepted for filing on the date requested.

Comment date: November 21, 2000, in accordance with Standard Paragraph E at the end of this notice.

18. Xcel Energy Operating Companies Northern States Power Company (Minnesota)

[Docket No. ER01-277-000]

Take notice that on October 31, 2000, Northern States Power Company and Northern States Power Company (Wisconsin) (jointly NSP), wholly-owned utility operating company subsidiaries of Xcel Energy Inc., tendered for filing a Firm Point-to-Point Transmission Service Agreement between NSP and Madison Gas & Electric Company. NSP proposes the Agreement be included in the Xcel Energy Operating Companies new FERC Joint Open Access Transmission Tariff, Original Volume No. 2, as Service Agreement 138-NSP, all pursuant to Order No. 614.

NSP requests that the Commission accept the agreement effective October 1, 2000, and requests waiver of the Commission's notice requirements in order for the agreements to be accepted for filing on the date requested.

Comment date: November 21, 2000, in accordance with Standard Paragraph E at the end of this notice.

19. Central Maine Power Company

[Docket Nos. ER97-1326-003 ER99-238-003 ER99-4534-003 ER00-982-004]

Take notice that on October 30, 2000, Central Maine Power Company (CMP), tendered for filing in compliance with FERC's Order issued on July 28, 2000, in the above-referenced dockets, 92 FERC ¶ 61,272 (2000), and the terms of the Uncontested Settlement Agreement approved by FERC in those dockets, an open access transmission tariff (OATT) revised to conform with the formatting requirements of Order No. 614, and an informational filing comprised of several worksheets describing the rates charged for services under the OATT based on the 1998 and 1999 test years.

Comment date: November 20, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-29176 Filed 11-14-00; 8:45 am]

BILLING CODE 6717-01-P